NUCLEAR REGULATORY COMMISSION

[NRC-2011-0191]

Draft License Renewal Interim Staff Guidance LR-ISG-2011-05; Ongoing Review of Operating Experience

AGENCY: Nuclear Regulatory Commission.

ACTION: Draft interim staff guidance; extension of comment period and public meeting.

SUMMARY: On August 24, 2011, in the Federal Register (76 FR 52995), the U.S. Nuclear Regulatory Commission (NRC) requested public comments on Draft License Renewal Interim Staff Guidance (LR-ISG), LR-ISG-2011-05, “Ongoing Review of Operating Experience.” This LR-ISG provides guidance and clarification concerning ongoing review of plant-specific and industry-wide operating experience as an attribute of aging management programs used at nuclear power plants. In response to a request from the Nuclear Energy Institute (NEI), the NRC is extending the public comment period until October 23, 2011, and holding a public meeting on October 12, 2011, to discuss the draft LR-ISG.

DATES: The comment period has been extended and expires on October 23, 2011. Comments received after this date will be considered, if it is practical to do so, but the NRC is able to ensure consideration only for comments received on or before this date.

ADDRESSES: Please include Docket ID NRC-2011-0191 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2011-0191. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

FOR FURTHER INFORMATION CONTACT: Mr. Matthew Homiack, Division of License Renewal, Office of Nuclear Reactor Regulation, U.S. Nuclear Regulatory Commission, Washington, DC 20555-0001; telephone: 301-415-1683; or e-mail: Matthew.Homiack@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this notice using the following methods:

• NRC's Public Document Room: The public may examine and have copied, for a fee, publicly available documents at the NRC's Public Document Room, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. Draft LR-ISG-2011-05 is available electronically under ADAMS Accession No. ML11203A411. A notice of the October 12, 2011, public meeting is available under ADAMS Accession No. ML11251A134.

• Federal Rulemaking Web site: Public comments and supporting materials related to this notice can be found at http://www.regulations.gov by searching on Docket ID NRC-2011-0191.

• NRC's Interim Staff Guidance Web site: LR-ISG documents are available online under the “License Renewal” heading at http://www.nrc.gov/reading-rm/doc-collections/#int.

• NRC's Public Meeting Schedule Web site: The NRC posts its upcoming public meetings at http://www.nrc.gov/public-involve/public-meetings.

Background

The NRC issues LR-ISGs to communicate insights and lessons learned and to address emergent issues not covered in license renewal guidance documents, such as NUREG-1801, Revision 2, “Generic Aging Lessons Learned (GALL) Report” (ADAMS Accession No. ML103490041), and NUREG-1800, Revision 2, “Standard Review Plan for Review of License Renewal Applications for Nuclear Power Plants” (SRP-LR) (ADAMS Accession No. ML103490036). In this way, the NRC staff and stakeholders may use the guidance in an LR-ISG document before it is incorporated into a formal license renewal guidance document revision. The NRC staff issues LR-ISG in accordance with the LR-ISG Process, Revision 2 (ADAMS Accession No. ML100920158), for which a notice of availability was published in the Federal Register on June 22, 2010 (75 FR 35510).

The NRC staff developed draft LR-ISG-2011-05 to clarify guidance on how the ongoing review of operating experience should be used to ensure the effectiveness of the license renewal aging management programs used at nuclear power plants to meet the requirements of Title 10 of the Code of Federal Regulations (10 CFR) Part 54, “Requirements for Renewal of Operating Licenses for Nuclear Power Plants.” The draft LR-ISG proposes to revise the NRC staff's recommended aging management programs in the GALL Report and the NRC staff's aging management review procedures and acceptance criteria in the SRP-LR.

On August 24, 2011, the NRC requested public comments on draft LR-ISG-2011-05. By letter dated August 29, 2011 (ADAMS Accession No. ML11242A114), the NEI requested a 30-day extension to the comment period and a public meeting to discuss draft comments and questions concerning implementation of the LR-ISG. The NRC staff believes that discussions at a public meeting will help stakeholders better prepare their comments on the draft LR-ISG. As such, the NRC staff is granting NEI's request for a public meeting. The meeting will be held on October 12, 2011. The public is invited to participate in this meeting by providing comments and asking questions throughout the meeting. The NRC staff is also granting NEI's request for a 30-day extension of the comment period. The extended comment period ends on October 23, 2011. This extension will allow the NRC staff to hold the public meeting during the comment period. It will also give stakeholders the opportunity to inform their comments based on the meeting discussions before closing of the comment period. The NRC staff will make a final determination regarding issuance of the LR-ISG after it considers any public comments received in response to this request.

Public Meeting

The NRC is holding a public meeting on October 12, 2011. This meeting will be held at NRC Headquarters, 11545 Rockville Pike, Rockville, MD 20852, from 1 p.m. to 3 p.m. Eastern Daylight Time. A teleconference will be available for those individuals who wish to participate but cannot attend in person. Additional details on this meeting, including room location and teleconference information, will be available in ADAMS under Accession No. ML11251A134 and will be on the NRC's Public Meeting Schedule Web site at least ten days prior to the meeting.

For the Nuclear Regulatory Commission.
Dated: September 14, 2011.
Melanie A. Galloway,
Acting Director, Division of License Renewal, Office of Nuclear Reactor Regulation.

[FR Doc. 2011-24061 Filed 9-19-11; 8:45 am]

BILLING CODE 7590-01-P